DEPARTMENT OF COMMERCE

International Trade Administration

[A-580-841]

Structural Steel Beams From Korea: Initiation of Changed Circumstances Antidumping Duty Administrative Review

AGENCY: Import Administration, International Trade Administration, Department of Commerce.

ACTION: Notice of Initiation of Changed Circumstances Antidumping Duty Review.

SUMMARY: In accordance with 19 CFR 351.216(b), Northwestern Steel & Wire Company, Nucor-Yamato Steel Company, and TXI-Chaparral Steel, Inc. (“Petitioners”), interested parties in this proceeding and the petitioners in the less-than-fair value investigation of structural steel beams from Korea, requested a changed circumstances review. In response to this request, the Department of Commerce is initiating a changed circumstances review on structural steel beams from Korea.

EFFECTIVE DATE: September 15, 2000.

FOR FURTHER INFORMATION CONTACT: Stephen Shin or Laurel LaCivita, Office of AD/CVD Enforcement Group III, Import Administration, International Trade Administration, U.S. Department of Commerce, 14th Street and Constitution Avenue, N.W., Washington, D.C. 20230; telephone: (202) 482-0413 or (202) 482-4243, respectively.

The Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department of Commerce's (“the Department's”) regulations are to the regulations at 19 CFR Part 351 (1999).

SUPPLEMENTARY INFORMATION:

Background

On July, 5 2000, the Department published the final determination of sales at less than fair value of structural steel beams from Korea. See Final Determination of Sales at Less Than Fair Value: Structural Steel Beams from Korea, 65 FR 41437 (July 5, 2000) (as amended 65 FR 50501 (August 18, 2000)) (“Final Determination”). On August 18, 2000, the Department published the antidumping duty order on this product. See Structural Steel Beams from Korea: Notice of Antidumping Duty Order 65 FR 50502 (August 18, 2000). In an August 30, 2000 letter to the Department, petitioners requested that the Department conduct a changed circumstances review pursuant to section 751(b)(1) of the Act. Petitioners state that Inchon Iron & Steel Co. Ltd. (“Inchon”) and Kangwon Industries, Ltd. (“Kangwon”), respondents in the original investigation in the above-mentioned proceeding, completed a merger of their steel-making operations during the Department's antidumping duty investigation, but subsequent to the period of investigation. Petitioners state that the newly formed company is the successor-in-interest to Inchon and Kangwon, and hence, should be subject to a new duty deposit rate.

Scope of Review

The products covered by this investigation are doubly-symmetric shapes, whether hot-or cold-rolled, drawn, extruded, formed or finished, having at least one dimension of at least 80 mm (3.2 inches or more), whether of carbon or alloy (other than stainless) steel, and whether or not drilled, punched, notched, painted, coated or clad. These products include, but are not limited to, wide-flange beams (“W” shapes), bearing piles (“HP” shapes), standard beams (“S” or “I” shapes), and M-shapes.

All products that meet the physical and metallurgical descriptions provided above are within the scope of this investigation unless otherwise excluded. The following products are outside and/or specifically excluded from the scope of this investigation: structural steel beams greater than 400 pounds per linear foot or with a web or section height (also known as depth) over 40 inches.

The merchandise subject to this investigation is classified in the Harmonized Tariff Schedule of the United States (“HTSUS”) at subheadings: 7216.32.0000, 7216.33.0030, 7216.33.0060, 7216.33.0090, 7216.50.0000, 7216.61.0000, 7216.69.0000, 7216.91.0000, 7216.99.0000, 7228.70.3040, 7228.70.6000. Although the HTSUS subheadings are provided for convenience and Customs purposes, the written description of the merchandise under investigation is dispositive.

Initiation of Antidumping Duty Changed-Circumstances Review

Pursuant to section 751(b)(1) of the Act, the Department will conduct a changed circumstances review upon receipt of information concerning, or a request from an interested party of, an antidumping duty order which shows changed circumstances sufficient to warrant a review of the order.

In its request for a changed circumstances review, petitioners indicate that the newly formed corporation is the successor in interest to Inchon and Kangwon due to the merger of their operations. In addition, the Department noted in its Issues and Decision Memorandum that accompanied the Final Determination that “Since the merger between Inchon and Kangwon took place after the POI, and after the preliminary determination in this investigation, the Department has not addressed the issue of successorship at this time * * * however, in light of the information obtained in this investigation regarding the issue of successorship, we would consider a request for a changed circumstances review in the event that an antidumping order is issued in this case.” See the Issues and Decision Memorandum at Comment 29, which accompanied the Final Determination. Because deposit rates established in an investigation are company-specific, and because the merger raises the question of whether the deposit rates set in the investigation are appropriate given the merger of operations between Inchon and Kangwon, we find good cause to conduct a changed circumstances review. See 19 CFR 351.216(c). Therefore, in accordance with section 751(b)(1) of the Act and 19 CFR 351.216(b) and 351.221(b)(1), we are initiating a changed circumstances review based upon the information contained in petitioners' August 30, 2000 request for this review.

In making a successor-in-interest determination, the Department examines several factors including, but not limited to, the following changes: (1) Management; (2) production facilities; (3) supplier relationships; and (4) customer base. See, e.g., Brass Sheet and Strip from Canada; Final Results of Antidumping Duty Administrative Review, 57 FR 20460 (May 13, 1992) (Canadian Brass). Although petitioners claim that the newly merged company is the successor-in-interest, petitioners have not, at this stage, provided any supporting documentation relevant to the factors described above. Therefore, we will consider additional information concerning Inchon's and Kangwon's merger.

We will publish in the Federal Register a notice of preliminary results of antidumping duty changed circumstances review, in accordance with 19 CFR 351.221(b)(4) and 351.221(c)(3)(i), which will set forth the factual and legal conclusions upon which our preliminary results are based and a description of any action proposed based on those results. As per 351.221(b)(4), interested parties will have an opportunity to comment. The Department will issue its final results of review not later than 270 days after publication of this notice of initiation. All written comments must be submitted to the Department and served on all interested parties on the Department's service list in accordance with 19 CFR 351.303.

During the course of this changed circumstances review, the current requirement for a cash deposit of estimated antidumping duties on all subject merchandise, including the merchandise subject to this changed-circumstances review, will continue unless and until it is modified pursuant to the final results of this changed circumstances review.

This notice is in accordance with section 751(b)(1) of the Act and 19 CFR 351.216 and 351.221.

Troy H. Cribb,
Acting Assistant Secretary for Import Administration.

[FR Doc. 00-23796 Filed 9-14-00; 8:45 am]

BILLING CODE 3510-DS-P